DEPARTMENT OF ENERGY

Federal Energy Regulatory Commission

Combined Notice of Filings

Take notice that the Commission has received the following Natural Gas Pipeline Rate and Refund Report filings:

Filings Instituting Proceedings

Docket Numbers: RP14-446-000.

Applicants: Gulf South Pipeline Company, LP.

Description: Neg Rate Agmt Filing (Enterprise 41933) to be effective 2/6/2014.

Filed Date: 2/6/14.

Accession Number: 20140206-5018.

Comments Due: 5 p.m. ET 2/18/14.

Docket Numbers: RP14-447-000.

Applicants: Iroquois Gas Transmission System, L.P.

Description: 02/06/14 Negotiated Rates—JP Morgan Ventures Energy Corp (HUB) 6025-89 to be effective 2/5/2014.

Filed Date: 2/6/14.

Accession Number: 20140206-5024.

Comments Due: 5 p.m. ET 2/18/14.

Docket Numbers: RP14-448-000.

Applicants: Iroquois Gas Transmission System, L.P.

Description: 02/06/14 Negotiated Rates—Sequent Energy Management (HUB) 3075-89 to be effective 2/6/2014.

Filed Date: 2/6/14.

Accession Number: 20140206-5026.

Comments Due: 5 p.m. ET 2/18/14.

Docket Numbers: RP14-449-000.

Applicants: Questar Overthrust Pipeline Company.

Description: Cashout Index Price to be effective 3/10/2014.

Filed Date: 2/6/14.

Accession Number: 20140206-5046.

Comments Due: 5 p.m. ET 2/18/14.

Docket Numbers: RP14-450-000.

Applicants: Questar Pipeline Company.

Description: Cashout Index Pricing to be effective 3/10/2014.

Filed Date: 2/6/14.

Accession Number: 20140206-5047.

Comments Due: 5 p.m. ET 2/18/14.

Docket Numbers: RP14-451-000.

Applicants: East Cheyenne Gas Storage, LLC.

Description: Non-conforming Agreements Filing 2-6-14 to be effective 3/8/2014.

Filed Date: 2/6/14.

Accession Number: 20140206-5053.

Comments Due: 5 p.m. ET 2/18/14.

Docket Numbers: RP14-452-000.

Applicants: Guardian Pipeline, L.L.C.

Description: Negotiated Rate PAL Agreement—Exelon Generation Company, L.L.C. to be effective 2/6/2014.

Filed Date: 2/6/14.

Accession Number: 20140206-5122.

Comments Due: 5 p.m. ET 2/18/14.

Docket Numbers: RP14-453-000.

Applicants: Enable Gas Transmission, LLC, Enable Mississippi River Transmission, L.

Description: Petition for Limited Waiver of the Enable Interstate Pipelines Regarding Portions of Order No. 787.

Filed Date: 2/6/14.

Accession Number: 20140206-5139.

Comments Due: 5 p.m. ET 2/18/14.

Docket Numbers: RP14-454-000.

Applicants: Iroquois Gas Transmission System, L.P.

Description: 02/07/14 Negotiated Rates—JP Morgan Ventures Energy Corp (HUB) 6025-89 to be effective 2/6/2014.

Filed Date: 2/7/14.

Accession Number: 20140207-5146.

Comments Due: 5 p.m. ET 2/19/14.

Docket Numbers: RP14-455-000.

Applicants: Guardian Pipeline, L.L.C.

Description: Negotiated Rate PAL Agreement—Chevron U.S.A., Inc. to be effective 2/10/2014.

Filed Date: 2/7/14.

Accession Number: 20140207-5163.

Comments Due: 5 p.m. ET 2/19/14.

Docket Numbers: RP14-456-000.

Applicants: Iroquois Gas Transmission System, L.P.

Description: 02/10/14 Negotiated Rates—Trafigura (HUB) 7445-89 to be effective 2/8/2014.

Filed Date: 2/10/14.

Accession Number: 20140210-5000.

Comments Due: 5 p.m. ET 2/24/14.

Docket Numbers: RP14-457-000.

Applicants: Iroquois Gas Transmission System, L.P.

Description: 02/10/14 Negotiated Rates—United Energy Trading, LLC (HUB) 5095-89 to be effective 2/8/2014.

Filed Date: 2/10/14.

Accession Number: 20140210-5001.

Comments Due: 5 p.m. ET 2/24/14.

Docket Numbers: RP14-458-000.

Applicants: Gulf South Pipeline Company, LP.

Description: Neg Rate Agmts Filing (Macquarie 41957 and Wells Fargo 41956) to be effective 2/8/2014.

Filed Date: 2/10/14.

Accession Number: 20140210-5028.

Comments Due: 5 p.m. ET 2/24/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1031-006.

Applicants: Trailblazer Pipeline Company LLC.

Description: Interim Rates Correction to be effective 2/1/2014.

Filed Date: 2/6/14.

Accession Number: 20140206-5134.

Comments Due: 5 p.m. ET 2/18/14.

Docket Numbers: RP14-402-001.

Applicants: Texas Eastern Transmission, LP.

Description: Amendment to ConocoPhillips Releases 2-01-2014 to be effective 2/1/2014.

Filed Date: 2/6/14.

Accession Number: 20140206-5092.

Comments Due: 5 p.m. ET 2/18/14.

Docket Numbers: RP14-403-001.

Applicants: Texas Eastern Transmission, LP.

Description: Amendment to ConocoPhillips Releases 4-01-2014 to be effective 4/1/2014.

Filed Date: 2/6/14.

Accession Number: 20140206-5099.

Comments Due: 5 p.m. ET 2/18/14.

Docket Numbers: RP12-993-005.

Applicants: Transcontinental Gas Pipe Line Company.

Description: Supplement to Stipulation and Agreement Tariff Record Filing to be effective 2/1/2014.

Filed Date: 2/7/14.

Accession Number: 20140207-5115.

Comments Due: 5 p.m. ET 2/19/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2014.
Nathaniel J. Davis, Sr.,
Deputy Secretary.

[FR Doc. 2014-03419 Filed 2-14-14; 8:45 am]

BILLING CODE 6717-01-P